DEPARTMENT OF AGRICULTURE

Commodity Credit Corporation

Domestic Sugar Program—Revisions of 2002-Crop Sugar Marketing Allotments and Allocations

AGENCY: Commodity Credit Corporation, USDA.

ACTION: Notice.

SUMMARY: This notice is to announce that the Commodity Credit Corporation (CCC) has reassigned the unused 2002-crop (Fiscal Year 2003) allocations among cane and beet sugar processors. This announcement lists the final revised 2002-crop sugar marketing allotments and allocations. This reassignment is effective September 26, 2003, and applies to all domestic cane and beet sugar marketed for human consumption in the United States from October 1, 2002, through September 30, 2003.

ADDRESSES: Barbara Fecso, Dairy and Sweeteners Analysis Group, Economic Policy and Analysis Staff, Farm Service Agency, USDA, 1400 Independence Avenue, SW., STOP 0516, Washington, DC 20250-0516; telephone (202) 720-4146; FAX (202) 690-1480; e-mail: barbara.fecso@usda.gov

FOR FURTHER INFORMATION CONTACT: Barbara Fecso at (202) 720-4146.

SUPPLEMENTARY INFORMATION: Section 359e(a) of the Agricultural Adjustment Act of 1938, as amended by the Farm Security and Rural Investment Act of 2002, requires a periodic review to determine (in view of current sugar inventories, estimated sugar production, expected marketings and other pertinent factors) whether (1) any sugarcane processor will be unable to market the sugar covered by the portion of the State cane sugar allotment allocated to the processor; and (2) any sugar beet processor will be unable to market its allocation. Section 359e(b)(1)(B) further provides for the reassignment of the estimated quantity of a State deficit proportionately to the allotments for other cane sugar States (depending on each State's capacity to market) when a State does not have the capacity to fulfill its allotment among its own processors.

In September 2003, sugarcane and sugar beet processors submitted revisions of their 2002-crop production and ending stocks estimates to CCC for the purpose of calculating a final reassignment. The allotments/allocations were calculated for the cane and beet sectors as follows:

Cane Sector:

• First, 14,878 short tons, raw value (STRV) of allocation were taken from Louisiana processors with surplus allocation and reassigned to processors with surplus supply within Louisiana (attached table, column C). This amount was insufficient to cover Louisiana's overall shortfall.

• Then, the excess allotment of 11,100 STRV for Hawaii was redistributed to the remaining cane states (attached table, column D).

Beet Sector:

• Using August survey data for the current year, it was determined that three beet sugar processors had 2002-crop allocation that would not be used while three processors showed an allocation shortfall. The surplus allocation of 8,679 STRV from the first three was surrendered and reassigned to other three (attached table, column D).

Two organizational changes are recognized in this Federal Register announcement:

1. The merger of M.A. Patout & Sons, Raceland Sugars and Sterling Sugars into M.A. Patout & Sons—a Louisiana cane processor with a single allocation.

2. The September 8, 2003, sale of all assets of the Pacific Northwest Sugar Company (PNS) to the American Crystal Sugar Company (ACS). In accordance with section 359d (b)(2)(F) of the Agriculture Adjustment Act of 1938, as amended, CCC permanently transferred the beet sugar allocation of PNS to ACS.

The final revised 2002-crop sugar marketing allotments and allocations are listed in the following table:

Fiscal Year 2003 Sugar Marketing Allotments and Allocations
[Revised September, 2003]
| B Last allotment/ allocation | C New—cane reassignments within States | D New— reassignments across all processors by sector | E New allotment/ allocation
(short tons, raw value)
Overall Beet/Cane Allotments:
Beet Sugar | 4,708,341 | 0 | 0 | 4,708,341
Cane Sugar (includes P. Rico) | 3,954,660 | 0 | 0 | 3,954,660
Total OAQ | 8,663,000 |  |  | 8,663,000
Beet Reassignment to CCC | 174,000 |  |  | 174,000
Allotment Available to Beet | 4,534,341 |  |  | 4,534,341
Allotment Available to Cane | 3,954,660 |  |  | 3,954,660
Beet Processors' Marketing Allocations:
Amalgamated Sugar Co. | 976,021 |  | 0 | 976,021
American Crystal Sugar Co. | 1,654,335 |  | 7,411 | 1,661,746
Holly Sugar Corp. | 299,100 |  | 0 | 299,100
Michigan Sugar Co. | 340,509 |  | 0 | 340,509
Minn-Dak Farmers Co-op. | 305,067 |  | 36 | 305,103
Monitor Sugar Co. | 174,268 |  | −1,554 | 172,714
So. Minn Beet Sugar Co-op. | 300,785 |  | 1,232 | 302,018
Western Sugar Co. | 446,772 |  | −4,853 | 441,919
Wyoming Sugar Co. | 37,483 |  | −2,272 | 35,211
Total Beet Sugar | 4,534,341 |  | 0 | 4,534,341
State Cane Sugar Allotments:
Florida | 2,104,337 |  | 6,201 | 2,110,538
Louisiana | 1,381,212 |  | 4,366 | 1,385,578
Texas | 178,326 |  | 534 | 178,860
Hawaii | 290,784 |  | −11,100 | 279,684
Puerto Rico | 0 | 0 | 0
Total Cane Sugar | 3,954,660 |  | 0 | 3,954,660
Cane Processors' Marketing Allocations:
Atlantic Sugar Assoc. | 163,777 |  | 0 | 163,777
Growers Co-op. of FL | 389,088 |  | 1,219 | 390,307
Okeelanta Corp. | 448,274 |  | 3,568 | 451,842
Osceola Farms Co. | 268,661 |  | 1,414 | 270,076
U.S. Sugar Corp. | 834,536 |  | 0 | 834,536
Total | 2,104,337 |  | 6,201 | 2,110,538
Alma Plantation | 77,257 | 4,847 | 1,422 | 83,526
Caire & Graugnard | 6,091 | 474 | 139 | 6,704
Cajun Sugar Co-op. | 106,711 | 0 | 0 | 106,711
Cora-Texas Mfg. Co. | 121,906 | 1,799 | 528 | 124,232
Harry Laws & Co. | 61,992 | 2,330 | 684 | 65,006
Iberia Sugar Co-op. | 64,543 | −3,087 | 0 | 61,456
Jeanerette Sugar Co. | 63,626 | 0 | 0 | 63,626
Lafourche Sugars Corp. | 64,470 | 0 | 0 | 64,470
Louisiana Sugarcane Co-op. | 81,471 | 740 | 217 | 82,429
Lula Westfield, LLC | 147,840 | 4,688 | 1,376 | 153,904
M.A. Patout & Sons | 387,454 | −2,060 | 0 | 385,394
St. Mary Sugar Co-op. | 89,485 | −3,600 | 0 | 85,885
So. Louisiana Sugars Co-op. | 108,366 | −6,131 | 0 | 102,235
Total | 1,381,212 | 0 | 4,366 | 1,385,578
Texas:
Rio Grande Valley | 178,326 |  | 534 | 178,860
Hawaii:
Gay & Robinson, Inc. | 64,298 |  | −3,600 | 60,698
Hawaiian Commercial & Sugar Company | 226,486 |  | −7,500 | 218,986
Total | 290,784 |  | −11,100 | 279,684
Puerto Rico:
Agraso | 0 |  | 0 | 0
Roig | 0 |  | 0 | 0
Total | 0 |  | 0 | 0

Signed in Washington, DC on October 3, 2003.
James R. Little,
Executive Vice President, Commodity Credit Corporation.

[FR Doc. 03-26175 Filed 10-15-03; 8:45 am]

BILLING CODE 3410-05-U